DEPARTMENT OF THE INTERIOR

Bureau of Indian Affairs

Proposed Agency Information Collection Activities; Comment Request

AGENCY: Bureau of Indian Affairs, Interior.

ACTION: Notice of renewal of a current approved information collection.

SUMMARY: This notice announces that the Bureau of Indian Affairs (BIA) in accordance with the Paperwork Reduction Act is soliciting comments on the Financial Assistance and Social Service program application forms in order to renew the Office of Management and Budget (OMB) clearance. This information collection request is cleared under OMB control number 1076-0017 and expires on June 20, 2002.

DATES: Written comments must be submitted on or before April 16, 2002.

ADDRESSES: Written comments or suggestion should be sent directly to Larry Blair, Office of Tribal Services, Bureau of Indian Affairs, Department of Interior, 1849 C Street, NW, MS-4603-MIB, Washington, DC 20240. Facsimile number (202) 208-2648.

FOR FURTHER INFORMATION CONTACT: Larry Blair, 202-208-2479.

SUPPLEMENTARY INFORMATION:

I. Abstract

The information collected is necessary to be in compliance with 25 CFR part 20 and 25 U.S.C. 13. The information is used to make determinations of eligibility for the BIA's social service (financial assistance) programs: General Assistance, Child Welfare Assistance, Miscellaneous Assistance, and services only (no cash assistance).

The information is also used to insure uniformity of services, and assure the maintenance of current and accurate records for clear audit facilitating data. All information collected is retained in an individual case record and used for case management/case planning purposes. The BIA does not require an individual to maintain a record.

An agency may not conduct or sponsor, and a person is not required to respond to a collection of information unless it displays a currently valid OMB control number.

II. Request for Comments

The Department of the Interior invites comments on:

(a) Whether the collection of information is necessary for the proper performance of the functions of the BIA, including whether the information will have practical utility;

(b) The accuracy of the BIA estimate of the burden (including hours and cost) of the proposed collection of information, including the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, or financial resources expended by persons to generate, maintain, retain, or disclose or provide information to or for a federal agency. This includes the time needed to review instructions; to develop, acquire, install and utilize technology and systems for the purpose of collection, validating, and verifying information, processing and maintaining information, and disclosing and providing information, to search data sources to complete and review the collection of information; and to transmit or otherwise disclose the information.

All written comments will be available for public inspection in Room 4651 of the Main Interior Building, 1849 C Street, NW, Washington, D.C. from 9:00 a.m. until 3:00 p.m., Monday through Friday, excluding legal holidays.

III. Data

Title of the collection of information: Department of the Interior, Bureau of Indian Affairs, Financial Assistance and Social Service Programs.

OMB Number: 1076-0017.

Expiration Date: June 30, 2002.

Type of Review: Extension of a currently approved collection. The information is submitted to obtain or retain benefits and for case management/case planning purposes.

Affected Entities: Individual members of Indian tribes who are living on or near a tribal service area.

Frequency of responses: One application per year.

Estimated Number of Annual Responses: 200,000.

Estimated Total Annual Burden Hours: 33,333 hours.

Dated: January 31, 2002.
Neal A. McCaleb,
Assistant Secretary—Indian Affairs.

[FR Doc. 02-3688 Filed 2-14-02; 8:45 am]

BILLING CODE 4310-43-P